DEPARTMENT OF TRANSPORTATION

National Highway Traffic Safety Administration

[Docket No. NHTSA-2005-21269; Notice 1]

The Goodyear Tire & Rubber Company, Receipt of Petition for Decision of Inconsequential Noncompliance

The Goodyear Tire & Rubber Company (Goodyear) has determined that certain tires it manufactured in 2005 do not comply with S4.3.4(b) of Federal Motor Vehicle Safety Standard (FMVSS) No. 109, “New pneumatic tires.”

Pursuant to 49 U.S.C. 30118(d) and 30120(h), Goodyear has petitioned for an exemption from the notification and remedy requirements of 49 U.S.C. Chapter 301 on the basis that this noncompliance is inconsequential to motor vehicle safety.

This notice of receipt of Goodyear's petition is published under 49 U.S.C. 30118 and 30120 and does not represent any agency decision or other exercise of judgment concerning the merits of the petition.

Affected are a total of approximately 4,992 Kelly Signature HPT and Essenza B210 Type 2 tires produced from February 1, 2005 to March 31, 2005. S4.3.4(b) of FMVSS No. 109 requires that “[e]ach marking of the tire's maximum load rating * * * in kilograms shall be followed in parenthesis by the equivalent load rating in pounds * * *.” The noncompliant tires have the correct maximum load rating in kilograms but the actual stamping for the maximum load in pounds is 2839 pounds, while the correct stamping should be 2833 lbs.

Goodyear believes that the noncompliance is inconsequential to motor vehicle safety and that no corrective action is warranted. Goodyear explains that the cause of the noncompliance was the use of a different conversion factor than that used by the Tire and Rim Association. Goodyear states that the noncompliance has no effect on the performance of the tires on a motor vehicle or on motor vehicle safety. Goodyear says that the tires meet or exceed all other tire labeling requirements and all minimum performance requirements of FMVSS No. 109.

Interested persons are invited to submit written data, views, and arguments on the petition described above. Comments must refer to the docket and notice number cited at the beginning of this notice and be submitted by any of the following methods. Mail: Docket Management Facility, U.S. Department of Transportation, Nassif Building, Room PL-401, 400 Seventh Street, SW., Washington, DC, 20590-0001. Hand Delivery: Room PL-401 on the plaza level of the Nassif Building, 400 Seventh Street, SW., Washington, DC. It is requested, but not required, that two copies of the comments be provided. The Docket Section is open on weekdays from 10 a.m. to 5 p.m. except Federal holidays. Comments may be submitted electronically by logging onto the Docket Management System Web site at http://dms.dot.gov. Click on “Help” to obtain instructions for filing the document electronically. Comments may be faxed to 1-202-493-2251, or may be submitted to the Federal eRulemaking Portal: go to http://www.regulations.gov. Follow the online instructions for submitting comments.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: June 30, 2005.

Authority: 49 U.S.C. 30118, 30120: delegations of authority at CFR 1.50 and 501.8.

Issued on: May 23, 2005.
Ronald L. Medford,
Senior Associate Administrator for Vehicle Safety.

[FR Doc. 05-10689 Filed 5-27-05; 8:45 am]

BILLING CODE 4910-59-P